DEPARTMENT OF HOMELAND SECURITY

Federal Emergency Management Agency

44 CFR Part 67

[Docket ID FEMA-2008-0020; Internal Agency Docket No. FEMA-B-1066]

Proposed Flood Elevation Determinations for York County, Maine (All Jurisdictions)

AGENCY: Federal Emergency Management Agency, DHS.

ACTION: Notice of proposed rulemaking; withdrawal.

SUMMARY: The Federal Emergency Management Agency (FEMA) is withdrawing its notice of proposed rulemaking concerning proposed flood elevation determinations for York County, Maine (All Jurisdictions).

DATES: As of January 20, 2011, the notice of proposed rulemaking published August 18, 2010, at 75 FR 50955 is withdrawn.

ADDRESSES: The docket for this withdrawn rulemaking is available for inspection or copying at 500 C St., SW., Washington, DC 20472

FOR FURTHER INFORMATION CONTACT: Luis Rodriguez, Chief, Engineering Management Branch, Federal Insurance and Mitigation Administration, Federal Emergency Management Agency, 500 C Street SW., Washington, DC 20472, (202) 646-4064, or (e-mail) luis.rodriguez1@dhs.gov.

SUPPLEMENTARY INFORMATION: On August 18, 2010, FEMA published a proposed rulemaking at 75 FR 50955, proposing flood elevation determinations along multiple flooding sources in York County, Maine. FEMA is withdrawing the proposed rulemaking in order to convert the York County flood study to FEMA's Risk Mapping, Assessment, and Planning (Risk MAP) Program as requested by several communities in the county.

Authority: 42 U.S.C. 4104; 44 CFR 67.4.

Dated: January 11, 2011.
Edward L. Connor,
Acting Federal Insurance and Mitigation Administrator, Mitigation, Department of Homeland Security, Federal Emergency Management Agency.

[FR Doc. 2011-1129 Filed 1-19-11; 8:45 am]

BILLING CODE 9110-12-P